DEPARTMENT OF COMMERCE

National Oceanic and Atmospheric Administration

[Docket No. 080604733-8735-01]

RIN 0648-XI35

Endangered and Threatened Species; Sea Turtles

AGENCY: National Marine Fisheries Service (NMFS), National Oceanic and Atmospheric Administration (NOAA), Commerce.

ACTION: Notice of request for nominations for the Head of the IAC Secretariat.

SUMMARY: The Parties to the InterAmerican Convention for the Protection and Conservation of Sea Turtles (IAC) agreed at the October 2007 Extraordinary Meeting of Parties to a procedure and terms of reference to select the Head of the Secretariat. Therefore, in accordance with that resolution, the United States Government is seeking nominations for the position of the Head of the Secretariat. The United States Government will nominate a candidate to the position. At the November 2008 Conference of Parties, the Parties will choose from all the nominations a Head of the Secretariat.

DATES: Nominations must be submitted by 5pm eastern Friday, June 20, 2008, per the instructions below.

ADDRESSES: Send comments by any one of the following methods.

(1) Electronic Submissions: Submit all letters of interest via e-mail to: Alexis.Gutierrez@noaa.gov. Include in the subject line of the e-mail the following identifier: Letter of Interest for the Head of the IAC Secretariat. Attachments to electronic comments will be accepted in Microsoft Word, Excel, WordPerfect, or Adobe PDF file formats only.

(2) Fax: 301-713-0376, Attn: U.S. Focal Point for the IAC, Ms. Alexis T. Gutierrez

(3) Mail, Attn: U.S. Focal Point for the IAC, Ms. Alexis T. Gutierrez, Office of Protected Resources, 13th Floor, 1315 East-West Highway, Silver Spring, MD 20910

(4) General Information about the IAC can be found at www.iacseaturtle.org.

FOR FURTHER INFORMATION CONTACT: Alexis T. Gutierrez (ph. 301-713-2322, fax 301-427-2522).

SUPPLEMENTARY INFORMATION:

Background

In 2001, the InterAmerican Convention for the Protection and Conservation of Sea Turtles (IAC) came into force. The objective of the Convention is to promote the protection, conservation and recovery of sea turtle populations and of the habitats on which they depend, based on the best available scientific evidence, taking into account the environmental, socioeconomic and cultural characteristics of the Parties. There are currently 13 parties to the Convention. For the last seven years, the IAC has operated through a Pro Tempore Secretariat. The term of the current Pro Tempore Secretariat will expire at the end of 2008. The Parties are currently seeking candidates for the position of Head of the Secretariat. Under resolution CIT-COPE1-2007-R1, each Party is responsible for nominating a candidate for consideration as the Head of the Secretariat. The United States government is using this Federal Register notice to solicit individuals who wish to be considered for this position. After evaluation of those individuals, the United States Government will submit a nomination to be considered by the Conference of Parties. The applicant will be informed of their selection as the United States nominee prior to the submission. After all the Parties have submitted applicants, the Parties will select the top four candidates to be interviewed at the November 2008 Conference of Parties meeting in Honduras. At that same meeting, the Parties will choose a Head of the Secretariat. The candidate selected to be the Head of the Secretariat, will be expected to begin in January of 2009.

All nominations for the position must meet the requirements outlined in IAC Resolution (CIT-COPE1-2007-R1). This resolution can be found at http://www.iacseaturtle.org/iacseaturtle/English/download/CIT-COPE1-2007-R1%20Eng.pdf . Information regarding the IAC, such as the text of the Convention, approved resolutions, Parties and more can be found at www.iacseaturtle.org.

All letters of interest should contain the following information, and be submitted to the individual listed in ADDRESSES by 5pm eastern, Friday, June 27, 2008:

1. A cover letter to Ms. Alexis T. Gutierrez, United States Government focal point, containing a statement of purpose of the application and succinct descriptions of the applicant experiences and abilities.

2. Curriculum Vitae

3. List of publications, if available.

4. Three letters of reference from persons with a recent knowledge of the applicant's character, qualifications and experience.

Authority: Endangered Species Act, Title 16, United States Code, Section 1536 et seq.

Dated: June 16, 2008.
John Oliver,
Deputy Assistant Administrator for Operations, National Marine Fisheries Service.

[FR Doc. E8-13986 Filed 6-19-08; 8:45 am]

BILLING CODE 3510-22-S